DEPARTMENT OF ENERGY

Federal Energy Regulatory Commission

Notice of Environmental Report Preparation and Post-Certificate Environmental Compliance Training Seminars

December 13, 2002.

The Office of Energy Projects (OEP) staff will conduct five sessions of its Environmental Report Preparation Seminar, as well as five sessions of the Post-Certificate Environmental Compliance Seminar, throughout 2003. The training seminars will be delivered by FERC staff and consultants with significant industry experience.

Details on the content of both seminars and the scheduled training locations are provided below. For more information for the courses visit the FERC Web site at http://www.ferc.gov/gas/industry_seminars_home.htm and to register for the courses, visit the Web site for these training sessions at http://www.ferc-envtraining.com or call (650) 712-6610. Registration for each course will be limited; so, although there is no charge for the course, all participants must register in advance.

Environmental Report Preparation (1-Day Seminar)

This one-day seminar will discuss the environmental documentation required for certificate applications prepared under Subpart A of 18 CFR 157 and Sections 7(a), 7(b), and 7(c) of the Natural Gas Act (NGA). Subpart F blanket projects and Section 2.55 replacements are covered in the manual but will not be discussed during the seminar. The seminar will assist each trainee in preparing the environmental report required for filing applications with FERC for project construction or abandonment. The presentation will address the information necessary to meet the FERC's minimum filing requirements and will cover the following topics:

1. General Project Description

2. Water Use and Quality

3. Fish, Wildlife, and Vegetation

4. Cultural Resources

5. Socioeconomics and Environmental Justice

6. Geological Resources

7. Soils

8. Land Use, Recreation, and Aesthetics

9. Air and Noise Quality

10. Alternatives

The seminar will also include a general background discussion of the FERC's environmental process as well as efforts to enhance landowner and other stakeholder involvement during the pre-filing process which potentially includes beginning the National Environmental Policy Act process during the development stage of a project. Participants will receive a certificate of attendance at the end of the session and an updated copy of the Guidance Manual for Environmental Report Preparation.

The Environmental Report Preparation Seminars will be held as shown on the attached table. More detailed information on these courses will be posted on the Web site referenced above.

Post-Certificate Environmental Compliance (2-Day Seminar)

This two-day seminar will cover the FERC's post-certificate regulatory process and construction and restoration requirements. The seminar will provide each trainee with knowledge of the basic environmental requirements of most FERC certificates and the Upland Erosion Control, Revegetation, and Maintenance Plan (Plan) and the Wetland and Waterbody Construction and Mitigation Procedures (Procedures) and will address the following compliance topics:

• Preconstruction planning

• Post-certificate filings, including cultural resources requirements, implementation plan, threatened and endangered species

• Waterbody crossings

• Wetland construction

• Erosion control

• Residential construction

• Agricultural mitigation

• Variance procedures

• Right-of-way restoration and post-construction activities

In the morning before each day of the seminar begins, we will also offer an “early-bird” session on Pipeline Construction (Day 1) and Recent Changes to the FERC Plan and Procedures (Day 2) for those participants who feel they would benefit. Participants must register for these early-bird sessions when registering for the seminar. The Pipeline Construction session will be for those who are inexperienced in basic pipeline construction practices. The Recent Changes to the FERC Plan and Procedures session will be of special interest to those individuals who are familiar with the old versions of these documents which were dated December, 1994.

Registered participants will receive a certificate of attendance at the end of the session and an updated copy of the Natural Gas Pipeline Environmental Compliance Workbook.

The Post-Certificate Environmental Compliance Seminars will be held as shown on the attached table. More detailed information on these courses will be posted on the Web site referenced above.

Linwood A. Watson, Jr.,
Deputy Secretary.

Schedule of Training Seminars (FY 2003)

Dates, Location, and Seminar (Day 1) (Days 2 & 3)

January 28, 29-30, Houston, ER Preparation Compliance

February 25, 26-27, Las Vegas, ER Preparation Compliance

March 18, 19-20, Atlanta, ER Preparation Compliance

April 22, 23-24, Pittsburgh, ER Preparation Compliance

May 20, 21-22, Houston, ER Preparation Compliance

[FR Doc. 02-32013 Filed 12-18-02; 8:45 am]

BILLING CODE 6717-01-P